DEPARTMENT OF THE INTERIOR

Bureau of Land Management

[LLMTM01000.L12320000.FV0000.LVRDMT110000XXX MO#4500080082]

Notice of Intent To Collect Fees at the Zortman Ranger Station and Buffington Day Use Area on Public Land in Phillips County Near Zortman, Montana

AGENCY: Bureau of Land Management, Interior.

ACTION: Notice of intent.

SUMMARY: Pursuant to the Federal Lands Recreation Enhancement Act (REA), the Bureau of Land Management (BLM), Malta Field Office, Malta, Montana, intends to collect fees at the Zortman Ranger Station, a historic U.S. Forest Service Ranger Station now administered by the BLM in Zortman, Montana, and expand the amenity reservation fee at the Buffington Day Use Area at the Camp Creek Recreation Area.

DATES: To ensure that comments will be considered, the BLM must receive written comments on the proposed rental fees by November 6, 2015. Effective April 7, 2015, the BLM Malta Field Office will begin charging expanded amenity fees for the recreational rental of the Zortman Ranger Station and reservation of Buffington Day Use Area, unless the BLM publishes a Federal Register notice to the contrary. The Central Montana Resource Advisory Council reviewed these proposed fees in May 2014.

ADDRESSES: Comments may be mailed or hand delivered to the BLM Malta Field Office, Attn: Field Manager, 501 South 2nd Street East, Malta, MT 59538. You may also submit comments via email to BLM_MT_Malta_FO@blm.gov or fax to 406-654-5150. Copies of the fee proposal are available at the BLM Malta Field Office, 501 South 2nd Street East, Malta, MT 59538 or on-line at: http://www.blm.gov/mt/st/en/fo/malta_field_office.html.

FOR FURTHER INFORMATION CONTACT: Kathy Tribby, BLM Outdoor Recreation Planner, at the above address, or by calling 406-654-5124. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: By this Notice, the BLM Malta Field Office is proposing to collect an expanded amenity fee for the rental of the Zortman Ranger Station and historic site and the Buffington Day Use Area. Proposed rental fees and day use fees would be identified and posted on the Malta Field Office Web site, at the Malta Field Office, and distributed in the local media. Fees would be collected as outlined in the field office's existing Camp Creek Campground, Montana Gulch Campground, Buffington Day Use Area, Zortman Ranger Station and Special Recreation Permits Business Plan.

The Zortman Ranger Station, built in 1905, was part of the Lewis and Clark National Forest until 1965 when management of public lands in the area was transferred to the BLM. The site includes the four-room main building, a storage shed and amphitheater which was built for the Lewis and Clark Bicentennial celebration. The main building is eligible for listing on the National Register of Historic Places. In 2013, the BLM partnered with the Forest Service's historic preservation team to repair the outside of the main building and landscape the yard to divert runoff which was undermining the foundation. The interior of the building has been inventoried and abated for asbestos and lead paint. The site also features an amphitheater which is used for interpretive presentations.

Buffington Day Use Area is located within the Camp Creek Recreation Area just northeast of Zortman, Montana. Buffington Day Use Area is utilized by individuals and groups as a parking site for day hikes, family and group gatherings such as picnics, reunions, church group outings and birthday parties. The BLM receives several inquiries each year about reserving the site for weddings and other large gatherings. Since this site has never been designated as a fee area, use is on a first come first serve basis and the facilities cannot be reserved for exclusive use. Establishing the site as a fee area will provide the opportunity for groups to reserve Buffington Day Use Area facilities for day use and allow the BLM to collect fees to cover the additional administrative and maintenance costs.

The Zortman Community and surrounding rural areas are trying to increase economic and recreational opportunities for local and regional populations by promoting the Little Rocky Mountains area and surrounding public lands south to the Missouri River as a destination for eco-tourism groups and families. The BLM is committed to providing and receiving fair value for the use of developed recreation facilities and services in a manner that meets public use demands, provides quality experiences, and protects important resources. In an effort to meet increasing demands for services and maintenance of the existing historic structure, the BLM would collect fees to offset those ongoing costs. In September 1994, the BLM completed the Record of Decision (ROD) and Approved Phillips Resource Area Resource Management Plan (RMP) which provides for the maintenance and/or enhancement of the recreational quality of BLM land and resources to ensure enjoyable recreation experiences. Collecting expanded amenity fees for the Zortman Ranger Station and Buffington Day Use Area would provide a reliable source of funding to ensure the long-term maintenance of these facilities for future recreational use. The collection of user fees was also addressed in the Business Plan, prepared pursuant to the REA and BLM recreation fee program policy. This Business Plan establishes the rationale for charging recreation fees. In accordance with BLM recreation fee program policy, the Business Plan explains the fee collection process and outlines how the fees with be used within the Malta Field Office. The BLM has notified and involved the public at each stage of the public participation process addressed by REA, including the proposal to collect fees, through the Central Montana Resource Advisory Council and other public scoping avenues.

Fee amounts will be posted on the BLM Malta Field Office Web site and at the Malta Field Office. Copies of the Business Plan are available at the Malta Field Office and the BLM Montana State Office.

Pursuant to the REA (16 U.S.C. 6801 et seq.), the Secretary may establish, modify, charge and collect recreation fees at Federal recreation lands and waters. Specifically, pursuant to Section 6802(g)(2)(C) of the REA, the Secretary may charge an expanded amenity recreation fee, either in addition to a standard amenity fee, or by itself, for the rental of day use areas, cabins or historic structures.

Comments may be mailed or hand delivered to the BLM Malta Field Office, Attn: Field Manager, 501 South 2nd Street East, Malta, MT 59538. You may also submit comments via email to BLM_MT_Malta_FO@blm.gov or fax to 406-654-5150. The BLM welcomes public comments on this Notice and on the proposed expanded amenity recreation fees at the Zortman Ranger Station and Buffington Day Use Area. Comments on the proposal of fees should be specific, should be confined to issues pertinent to the proposals, and should explain the reason for any recommended change. Where possible, your comments should reference the specific section or paragraph of the proposed fee that you are addressing.

Before including your address, phone number, email address or other personal identifying information in your comment, be advised that your entire comment—including your personal identifying information—may be made publicly available at any time. While you can ask us in your comment to withhold your personal identifying information from public review, we cannot guarantee that we will be able to do so.

Authority: 16 U.S.C. 6803(b); 43 CFR 2932.31.

Vinita Shea,
Field Manager.

[FR Doc. 2015-25537 Filed 10-6-15; 8:45 am]

BILLING CODE 4310-DN-P